PEACE CORPS

22 CFR Part 307

Peace Corps Standards of Conduct

AGENCY: Peace Corps.

ACTION: Final rule.

SUMMARY: The Peace Corps is removing outdated regulations that set out the ethical conduct and other responsibilities applicable to Peace Corps employees. These regulations have been superseded, in significant part, by government-wide regulations.

EFFECTIVE DATE: This rule will be effective on November 25, 2003.

FOR FURTHER INFORMATION CONTACT: Carl R. Sosebee, Designated Agency Ethics Official, (202) 692-2150.

SUPPLEMENTARY INFORMATION:

I. Background

Part 307, which sets out Peace Corps' regulations regarding the ethical conduct and other responsibilities of Peace Corps employees was last revised in 1987, see 52 FR 30151, Aug. 13, 1987; 22 CFR part 307. The conduct and responsibilities covered in this part have been superseded by the Office of Government Ethics' (OGE) executive branch ethical standards and requirements codified at 5 CFR parts 2634, 2635, 2636, 2637, 2638 and 2640. Further, rules governing partisan political activity by executive branch employees and rules governing gambling, betting and lotteries on government owned or leased property or while on duty are set forth at 5 CFR parts 734 and 735. Government-wide rules on procurement integrity are set forth in the Procurement Integrity Act, 41 U.S.C. 423, and the Federal Acquisition Regulations, 48 CFR 3.104. Because Peace Corps employees are already subject to these various rules, the Peace Corps is removing Part 307 from the Code of Federal Regulations. Remaining portions of the Peace Corps' existing standards pertaining to prior review of publications of official concern set forth in Section 307.735-306(a)3; and portions pertaining to economic and financial activities of employees abroad, set forth in Section 307.735-308 have been retained as Agency internal regulations pursuant to the authority of the Director in 22 U.S.C. 2503. To the extent part 307 covers organizational conflicts of interest in procurement and procurement-related matters, the Peace Corps is considering whether to incorporate them into the Peace Corps' internal rules.

Peace Corps published a proposed rule in the Federal Register on February 5, 2003 (68 FR 5857). Public comments were due on March 7, 2003. The Agency received no comments and has not made any changes to the rule.

II. Matters of Regulatory Procedure

Executive Order 12866. The Peace Corps has determined that this proposed rule does not constitute a “significant regulatory action” for the purposes of Executive Order 12866.

Regulatory Flexibility Act. Pursuant to section 605(b) of the Regulatory Flexibility Act, the Peace Corps certifies that this rule will not have a significant economic impact on a substantial number of small entities within the meaning of the Regulatory Flexibility Act (5 U.S.C. 601 et seq.). Accordingly, no regulatory flexibility analysis is required.

Unfunded Mandates Reform Act of 1995. Section 202 of the Unfunded Mandates Reform Act of 1995 (Unfunded Mandates Act) (2 U.S.C. Chs. 17A and 25) requires that an agency prepare a budgetary impact statement before promulgating a rule that includes a Federal mandate that may result in expenditure by State, local, and tribal governments, in the aggregate, or by the private sector, of $100 million or more in any one year. If a budgetary impact statement is required, agencies must also identify and consider a reasonable number of regulatory alternatives before promulgating a rule. The Peace Corps has determined that this rule will not result in expenditures by State, local, or tribal governments or by the private sector of $100 million or more. Accordingly, the Peace Corps has not prepared a budgetary impact statement or specifically addressed the regulatory alternatives considered.

List of Subjects in 22 CFR Part 307

Political activities; Government employees; Ethical conduct; Financial disclosure, Conflicts of interest.

For the reasons set forth in the preamble, the Peace Corps amends title 22 of the CFR by removing part 307.

Dated: November 19, 2003.
Tyler S. Posey,
General Counsel.

[FR Doc. 03-29408 Filed 11-24-03; 8:45 am]

BILLING CODE 6015-01-M